SECURITIES AND EXCHANGE COMMISSION

[Release No. 34-103891; File No. SR-BX-2025-017]

Self-Regulatory Organizations; Nasdaq BX, Inc.; Notice of Filing and Immediate Effectiveness of a Proposed Rule Change To Add the CORE FIX Order Entry Protocol and To Amend Nasdaq BX Equity 4, Rules 4120, 4702, 4703, and 4757

September 5, 2025.

Pursuant to Section 19(b)(1) of the Securities Exchange Act of 1934 (“Act”) ¹ and Rule 19b-4 thereunder,² notice is hereby given that on August 26, 2025, Nasdaq BX, Inc. (“BX” or “Exchange”) filed with the Securities and Exchange Commission (“Commission”) the proposed rule change as described in Items I, II, and III below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange proposes to establish “CORE FIX” as a new Order Entry Protocol (defined below) on the Exchange, to amend Nasdaq BX Equity 4, Rules 4120, 4702, 4703, and 4757 to add the new CORE FIX protocol, as described further below, and to align the Exchange rulebook's description of RPI Orders and Retail Orders with their current functionality. The proposed amendments will not make any other substantive changes to the rules.

The text of the proposed rule change is available on the Exchange's website at https://listingcenter.nasdaq.com/rulebook/bx/rulefilings, and at the principal office of the Exchange.

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in sections A, B, and C below, of the most significant aspects of such statements.

A. Self-Regulatory Organization's Statement of the Purpose of, and the Statutory Basis for, the Proposed Rule Change

1. Purpose

BX currently offers customers the ability to send orders to the Exchange via four Order ³ entry protocols: OUCH, RASH, FIX, and FLITE.⁴ Due to differences in the technical designs and capabilities of these protocols, they offer market participants different functionalities and experiences with respect to order handling. That is, order handling behaviors on the Exchange and the speed at which those behaviors execute vary, in certain circumstances, depending upon the particular protocol that a participant chooses to utilize to enter its Orders ⁵ in connection with particular Order Types ⁶ and Order Attributes.⁷

³ The term “Order” means an instruction to trade a specified number of shares in a specified NMS stock submitted to the Nasdaq BX Equities Market by a customer. An “Order Type” is a standardized set of instructions associated with an Order that define how it will behave with respect to pricing, execution, and/or posting to the Exchange Book when submitted to the System (defined below). An “Order Attribute” is a further set of variable instructions that may be associated with an Order to further define how it will behave with respect to pricing, execution, and/or posting to the Exchange Book when submitted to the System. The available Order Types and Order Attributes, and the Order Attributes that may be associated with particular Order Types, are described in Nasdaq BX Rules 4702 and 4703. One or more Order Attributes may be assigned to a single Order; provided, however, that if the use of multiple Order Attributes would provide contradictory instructions to an Order, the System will reject the Order or remove non-conforming Order Attributes. See Nasdaq BX Equity 1, Section 1(a)(11).

⁴ The OUCH Order entry protocol is a proprietary protocol that allows subscribers to quickly enter orders into the System and receive executions. OUCH accepts limit Orders from members, and if there are matching Orders, they will execute. Non-matching Orders are added to the Limit Order Book, a database of available limit Orders, where they are matched in price-time priority. OUCH only provides a method for members to send Orders and receive status updates on those Orders. See https://www.nasdaqtrader.com/Trader.aspx?id=OUCH. RASH (Routing and Special Handling) is a proprietary protocol that allows participants to enter Orders, cancel existing Orders and receive executions while providing smart order routing and special handling features. RASH also allows participants to use advanced functionality, including discretion, random reserve, pegging and routing. See https://www.nasdaqtrader.com/Trader.aspx?id=RASH. FIX is a vendor-neutral standard message protocol that defines an electronic message exchange for communicating securities transactions between two parties. The Exchange's FIX implementation acts like a router, converting incoming FIX messages into OUCH messages and back again. See https://www.nasdaqtrader.com/Trader.aspx?id=FIX and https://www.nasdaqtrader.com/content/ProductsServices/Trading/Protocols_quickref.pdf. FIX Lite or “FLITE” is an Order entry protocol based on a subset of FIX. See https://www.nasdaqtrader.com/Trader.aspx?id=FLITE and https://www.nasdaqtrader.com/content/ProductsServices/Trading/Protocols_quickref.pdf.

⁵ See Nasdaq BX Equity 1, Section 1(a)(11).

⁶ An “Order Type” is a standardized set of instructions associated with an Order that define how it will behave with respect to pricing, execution, and/or posting to the Exchange Book when submitted to BX. See id.

⁷ An “Order Attribute” is a further set of variable instructions that may be associated with an Order to further define how it will behave with respect to pricing, execution, and/or posting to the Exchange Book when submitted to the Exchange. See id.

In recent years, the Exchange acted to reduce variances in the behaviors and speeds of its Order entry protocols to improve the customer experience and increase the efficiency of sending Orders to the Exchange. For example, the OUCH Order entry protocol had been developed with simplicity in mind, and so it lacked certain advanced order handling capabilities. In 2022 the Exchange upgraded the OUCH Order entry protocol, infusing it with the advanced order handling abilities of RASH.⁸

⁸ See Securities Exchange Act Release No. 95695 (Sept. 7, 2022), 87 FR 56122 (Sept. 13, 2022) (SR-BX-2022-015) (Self-Regulatory Organizations; Nasdaq BX, Inc.; Notice of Filing and Immediate Effectiveness of Proposed Rule Change to Amend Equity 4, Rules 4120, 4702 and 4703).

The Exchange now proposes to amend Rule 4702(a) to introduce a new proprietary Order entry protocol named “CORE FIX,” that will bring to FIX similar advanced order handing capabilities and efficiencies that the Exchange previously brought to OUCH. CORE FIX will operate as a streamlined alternative to FIX for participants that utilize and appreciate the familiarity of coding for FIX, but do not utilize routing strategies. These participants will benefit from an improvement in performance associated with a new Order entry protocol that omits the routing capabilities from FIX, while still availing themselves of the advanced order handling behaviors that are available through OUCH. CORE FIX will allow participants to code to the standard FIX specifications, while gaining faster direct access to the Exchange along with the latest and most efficient order handling functionality that the Exchange has to offer.

CORE FIX will cater to the customer segment that currently uses FIX but does not use its routing capabilities. Using the same standardized protocol as FIX, but eliminating the intricate RASH-based software layer that provides for Order routing functionality, will streamline order handling behavior and improve Order latency relative to either FIX or RASH. However, the proposed amendments will not make any other substantive changes to the rule and order processing mechanism.

To accommodate the new Order entry protocol, the Exchange proposes to make changes to how limit-priced orders behave in the event of a regulatory halt. Currently, pursuant to Rule 4120(b)(1)(A)(i)(e)(2)(a), limit-priced orders entered via OUCH and not assigned a Managed Pegging, Discretionary, or Reserve Order Attribute will be repriced upon entry only if the Price Bands are such that the price of the limit-priced interest to buy (sell) would be above (below) the upper (lower) Price Band. The Exchange proposes to also apply this provision to limit-priced orders entered via the CORE FIX protocol. Currently, pursuant to Rule 4120(b)(1)(A)(i)(e)(2)(b), for limit-priced orders entered via OUCH if assigned a Managed Pegging, Discretionary, or Reserve Order Attribute, the order may be repriced by the System ⁹ multiple times if the Price Bands move such that the price of resting limit-priced interest to buy (sell) would be above (below) the upper (lower) Price Band. The Exchange proposes to also apply this current provision to orders entered via the CORE FIX protocol.

⁹ The “System,” which is another term for the Nasdaq BX Equities Market, is the automated system for order execution and trade reporting owned and operated by the Exchange. See Nasdaq BX Equity 1, Section 1(a)(6).

The Exchange proposes to amend Rule 4702(a) to add CORE FIX to the list of order entry protocols available at the Exchange, and to specify that CORE FIX is an Exchange proprietary protocol. BX also proposes to amend various other provisions of Rule 4702 to provide that orders entered via CORE FIX will behave similarly to orders entered via OUCH for the following Order Types and Order Attributes:

• Price to Comply Order (Rule 4702(b)(1)):

○ If a Price to Comply Order is entered during Market Hours and the entered limit price of the order crossed a Protected Quotation and the NBBO changes so that the order could be displayed at a price at or closer to its entered limit price without locking or closing a Protected Quotation, the order may either remain on the Exchange Book unchanged or it may be cancelled back to the participant, depending on the participant's choice. If the entered limit price of the order would no longer lock a Protected Quotation, the order may either remain on the Exchange Book unchanged, it may be cancelled back to the participant, or it may be ranked and displayed at its original entered limit price, depending on the participant's choice. If the order is ranked and displayed at its original entered limit price, it will receive a new timestamp.

○ For a Price to Comply Order, the following Order Attributes will be available through CORE FIX:

Price

Size

Reserve Size

Time-in-Force other than IOC

Designation as an ISO

Primary Pegging and Market Pegging

Discretion

Display (A Price to Comply Order is always displayed, although as provided above, it may also have a non-displayed price and/or Reserve Size)

Trade Now

• Price to Display Order (Rule 4702(b)(2)):

○ If a Price to Display Order is entered during Market Hours and the entered limit price of the order locked or crossed a Protected Quotation and the NBBO changes so that the order could be ranked and displayed at a price at or closer to its original entered limit price without locking or crossing a Protected Quotation, the order may either remain on the Exchange Book unchanged or it may be cancelled back to the participant depending on the participant's choice.

○ For a Price to Display Order, the following Order Attributes would be available through CORE FIX:

Price

Size

Reserve Size

A Time-in-Force other than IOC

Designation as an ISO

Primary Pegging and Market Pegging

Discretion

Attribution (All Price to Display Orders are Attributable Orders)

Display (A Price to Display Order is always displayed (but may also have Reserve Size)

• Non-Displayed Order (Rule 4702(b)(3)):

○ If a Non-Displayed Order is entered during Market Hours and the original entered limit price of the order locked or crossed a Protected Quotation and the NBBO changes so that the order could be posted at a price at or closer to its original entered limit price without crossing a Protected Quotation, the order may either remain on the Exchange Book unchanged or it may be cancelled back to the participant, depending on the participant's choice. If, after the order is posted to the Exchange Book, the NBBO changes so that the order would cross a Protected Quotation, the order will be cancelled back to the participant. If, after a Non-Displayed Order is posted on the Exchange Book, the NBBO changes so that the order would cross a Protected Quotation, the order will be cancelled back to the participant.

○ For a Non-Displayed Order, the following Order Attributes would be available through CORE FIX:

Price

Size

Minimum Quantity

Time-in-Force

Designation as an ISO

Primary Pegging and Market Pegging

Pegging to the Midpoint

Discretion

Trade Now

• Post-Only Order (Rule 4702(b)(4)):

○ If a Post-Only Order is entered during Market Hours and the original entered limit price of the order locked or crossed a Protected Quotation, the order may be adjusted as follows:

In the case of a Non-Attributable ¹⁰ Post-Only Order that crossed a Protected Quotation, if the NBBO changed so that the order could be ranked and displayed at a price at or closer to its original entered limit price without locking or crossing a Protected Quotation, the order may either remain on the Exchange Book unchanged or it may be cancelled back to the participant, depending on the participant's choice.

¹⁰ Attribution is an Order Attribute that permits a participant to designate that the price and size of the Order will be displayed next to the participant's MPID in market data disseminated by the Exchange. An Order with Attribution is referred to as an “Attributable Order” and an Order without attribution is referred to as a “Non-Attributable Order.” BX Rule 4703(i). An MPID is a market participant identifier assigned to each participant in the Exchange. BX Equity 1, Section 1(a)(15).

In the case of a Non-Attributable Post-Only Order that locked a Protected Quotation, if the limit price would no longer lock a Protected Quotation, the order may either remain on the Exchange Book unchanged, it may be cancelled back to the participant, or it may be ranked and displayed at its original entered limit price, depending on the participant's choice. If the order is displayed at its original entered limit price, it will receive a new timestamp.

In the case of an Attributable Post-Only Order that locked or crossed a Protected Quotation, if the NBBO changed so that the order could be ranked and displayed at a price at or closer to its original entered limit price without locking or crossing a Protected Quotation, the order may either remain on the Exchange Book or it may be cancelled back to the participant, depending on the participant's choice.

During System Hours, if the original limit price of the order locked or crossed a displayed order on the Exchange Book and the Exchange Book changes so that the original entered limit price would no longer lock or cross an order on the Exchange Book, the order may either remain on the Exchange Book unchanged or it may be cancelled back to the participant, depending on the participant's choice.

○ For a Post-Only Order, the following Order Attributes would be available through CORE FIX:

Price

Size

Time-in-Force

Designation as an ISO

Attribution

Display (A Post-Only Order is always displayed, although it may also have a non-displayed price)

• For a Retail Price Improving Order (“RPI Order”) (Rule 4702(b)(5)),¹¹ the following Order Attributes would be available through CORE FIX:

¹¹ Additional changes to Rule 4702(b)(5) are described below.

○ Price

○ Size

○ A Time-in-Force other than IOC

○ Primary Pegging

○ Non-Display (All RPI Orders are Non-Displayed)

• Market Maker Peg Orders (Rule 4702(b)(7)), and all their available Order Attributes, would also be entered through CORE FIX, just as they can currently be entered through OUCH, RASH, or FIX. This order type's behavior will be identical whether the order is transmitted via CORE FIX, OUCH, RASH, or FIX.

Rule 4703 would be amended to specify that the following Order Attributes will interact with orders entered through CORE FIX in these specified ways:

• Orders with Primary Pegged, Market Pegged, and Managed Midpoint Order Attributes (collectively, “Peg Managed Orders”) will be available through CORE FIX (Rule 4307(d)).

• An order with a Minimum Quantity Order Attribute (Rule 4307(e)) entered through CORE FIX may have a minimum quantity condition of any size of at least one round lot.

• An order with a Reserve Size Order Attribute (Rule 4307(h)) with a displayed size of an odd lot entered through CORE FIX will be rejected.

• When entered through CORE FIX, the Trade Now Order Attribute (Rule 4307(l)) may be enabled on an order-by-order or a port-level basis.

The Exchange proposes to amend Rule 4757(a)(A)(3) to give participants using CORE FIX the ability to assign orders entered through a specific order entry port a unique group identification modifier that will prevent quotes/orders with such modifier from executing against each other.

The Exchange also proposes to amend BX Rule 4702(b)(5)(B),¹² which governs RPI Orders, so that the rule reflects that the Midpoint Pegging Order Attribute is not currently available on RPI Orders. Likewise, the Exchange proposes to amend this same rule to reflect that the Primary Pegging Order Attribute for RPI Orders is currently also available through OUCH, and that, as described above, this attribute will be available through CORE FIX, as well. The Exchange also proposes to amend this rule so that it accurately reflects both the current and proposed ¹³ repricing functionality of the RPI Order, which is similar to the repricing functionality for Non-Display Orders (BX Rule 4702(b)(3)), modified to reflect that, unlike Non-Display Orders, RPI Orders cannot have a routing Order Attribute. Therefore, the repricing functionality of RPI Orders will be as follows:

¹² BX Rule 4702(b)(5)(B) is being redesignated in this filing as BX Rule 4702(b)(5)(C).

¹³ In this instance, the current functionality refers to the functionality associated with orders entered through the existing order entry protocols (i.e.: RASH, FIX, OUCH, and FLITE). The proposed functionality refers to functionality associated with orders entered through CORE FIX.

• If an RPI Order is entered through RASH or FIX during Market Hours, the order may be adjusted in the following manner after initial entry and posting to the Exchange Book:

○ If the original entered limit price of the order is higher than the Best Offer (for an order to buy) or lower than the Best Bid (for an order to sell) and the NBBO moves toward the original entered limit price of the order, the price of the order will be adjusted repeatedly in accordance with changes in the NBBO. The order may be repriced repeatedly in this manner, receiving a new timestamp each time its price is changed, until the order is posted at its original entered limit price. The order will not thereafter be repriced, except as provided below with respect to crossing a Protected Quotation.

○ If, after being posted to the Exchange Book, the NBBO changes so that the RPI Order would cross a Protected Quotation, the order will be repriced at a price that would lock the new NBBO and receive a new timestamp. The order may be repriced and receive a new timestamp repeatedly.

• If an RPI Order is entered through CORE FIX, OUCH, or FLITE during Market Hours, the order may be adjusted in the following manner after initial entry and posting to the Exchange Book:

○ If the original entered limit price of the order locked or crossed a Protected Quotation and the NBBO changes so that the order could be posted at a price at or closer to its original entered limit price without crossing a Protected Quotation, the order may either remain on the Exchange Book unchanged or it may be cancelled back to the participant, depending on the participant's choice.

○ If, after an order is posted to the Exchange Book, the NBBO changes so that the order would cross a Protected Quotation, the order will be cancelled back to the participant.

Lastly, the Exchange is proposing to amend BX Rule 4702(b)(6), which governs Retail Orders, so that the rule accurately reflects that the Midpoint Pegging Order Attribute is not currently available for Retail Orders.

The Exchange will announce the implementation date of the new CORE FIX functionalities in an Equity Trader Alert at least 30 days prior to implementation. A present, the Exchange expects that the new CORE FIX functionality will be ready for full implementation in October 2025, although that time frame is subject to change.

2. Statutory Basis

The Exchange believes that its proposal is consistent with Section 6(b) of the Act,¹⁴ in general, and furthers the objectives of Section 6(b)(5) of the Act,¹⁵ in particular, in that it is designed to promote just and equitable principles of trade, to remove impediments to and perfect the mechanism of a free and open market and a national market system, and, in general to protect investors and the public interest.

¹⁴ 15 U.S.C. 78f(b).

¹⁵ 15 U.S.C. 78f(b)(5).

As a preliminary matter, the Exchange notes that this proposal is not novel. Earlier this year The Nasdaq Stock Market LLC made similar changes to its rulebook to establish CORE FIX on its equities market.¹⁶ The CORE FIX functionality under Nasdaq Equity 4, Nasdaq Rules 4120, 4702, 4703, and 4757 is substantially similar to the CORE FIX functionality proposed by BX in the present filing.

¹⁶ See Securities Exchange Act Release No. 102661 (Mar. 13, 2025), 90 FR 12858 (Mar. 19, 2025) (Self-Regulatory Organizations; The Nasdaq Stock Market LLC; Notice of Filing and Immediate Effectiveness of a Proposed Rule Change to Amend Equity 4, Rules 4120, 4702 4703, and 4757).

It is consistent with the Act to amend the rulebook to reflect upgrades to the Exchange's Order entry protocols. The introduction of CORE FIX is consistent with the Act because it will offer members a new optional order entry protocol that will be both more capable and efficient than the existing FIX protocol. CORE FIX will combine into a single protocol many of the most popular features of the FIX protocol (such as the ability to code to its specifications) and the OUCH protocol (such as its advanced order handling capabilities), while omitting routing capabilities, which many customers do not require. CORE FIX will utilize the Exchange's System to directly process advanced order handling instructions, rather than going through the RASH architecture layer, which FIX does currently to facilitate order routing. This design feature will render CORE FIX faster than FIX and on par with OUCH. Those participants that wish to route orders can continue to utilize existing protocols for that purpose.

The Exchange's proposal to amend its Rule governing the Limit Up-Limit Down Mechanism (Rule 4120(b)(1)(A)(i)(e)(2)), enumerating the protocols available at the Exchange (Rule 4702(a)), Price to Comply Order (Rule 4702(b)(1)), Price to Display Order (Rule 4702(b)(2)), Non-Displayed Order (Rule 4702(b)(3)), Post-Only Rule (Rule 4702(b)(4)), RPI Order (Rule 4702(b)(5)), Retail Order (Rule 4702(b)(6)), Market Maker Peg Order (Rule 4702(b)(7)), Order Attributes (Rule 4703), and Book Processing (Rule 4757(a)(A)(3)) is consistent with the Act because these specific amendments do nothing more than align CORE FIX's capability to handle certain Order Types and Order Attributes in a way that is similar to OUCH.

Additionally, this proposal will promote just and equitable principles of trade by modernizing and streamlining the Exchange's order entry protocols so that members who are not looking to route orders will no longer need to sacrifice functionality for speed, or vice versa, when sending orders to the Exchange.

Finally, this proposal is consistent with the Act and is designed to promote just and equitable principles of trade because it ensures that the rulebook accurately reflects the Order Attributes available for Retail Orders, and the repricing functionality and availability of Order Attributes for RPI Orders. There are already multiple Order Types that do not offer midpoint pegging, so the unavailability of this Order Attribute for a particular Order Type is not novel. Clarifying in the rulebook that this Order Attribute is not available for Retail Orders will help market participants choose the most appropriate Order Type to achieve their trading objectives. Similarly, the existing repricing functionality for RPI Orders is substantially similar to that of Non-Displayed Orders—the only difference being that RPI Orders, unlike Non-Displayed Orders, do not route away from the Exchange. Thus, clarifying that the repricing functionality of these two order types is nearly identical will help market participants to decide which of the two order types better fits their trading objectives.

B. Self-Regulatory Organization's Statement on Burden on Competition

The Exchange does not believe that the proposed rule change will impose any burden on competition not necessary or appropriate in furtherance of the purposes of the Act. As a general principle, the proposed changes are reflective of the significant competition among exchanges and non-exchange venues for order flow. In this regard, proposed changes that facilitate enhancements to the Exchange's System and Order entry protocols, as well as those that amend and clarify the Exchange's Rules regarding its Order Types and Order Attributes, are pro-competitive because they bolster the efficiency, functionality, and overall attractiveness of the Exchange in an absolute sense and relative to its peers. Moreover, none of the proposed changes will unduly burden intra-market competition among various Exchange participants. Participants will experience no competitive impact from its proposals, as these proposals will restate and reorganize portions of the Rule to reflect the capabilities of CORE FIX, as well as resolve certain discrepancies between the current behavior of certain Order Types and Order Attributes and what is currently in the rulebook.

C. Self-Regulatory Organization's Statement on Comments on the Proposed Rule Change Received From Members, Participants, or Others

No written comments were either solicited or received.

III. Date of Effectiveness of the Proposed Rule Change and Timing for Commission Action

Because the foregoing proposed rule change does not: (i) significantly affect the protection of investors or the public interest; (ii) impose any significant burden on competition; and (iii) become operative for 30 days from the date on which it was filed, or such shorter time as the Commission may designate, it has become effective pursuant to Section 19(b)(3)(A)(iii) of the Act ¹⁷ and subparagraph (f)(6) of Rule 19b-4 thereunder.¹⁸

¹⁷ 15 U.S.C. 78s(b)(3)(A)(iii).

¹⁸ 17 CFR 240.19b-4(f)(6). In addition, Rule 19b-4(f)(6) requires a self-regulatory organization to give the Commission written notice of its intent to file the proposed rule change at least five business days prior to the date of filing of the proposed rule change, or such shorter time as designated by the Commission. The Exchange has satisfied this requirement.

At any time within 60 days of the filing of the proposed rule change, the Commission summarily may temporarily suspend such rule change if it appears to the Commission that such action is necessary or appropriate in the public interest, for the protection of investors, or otherwise in furtherance of the purposes of the Act. If the Commission takes such action, the Commission shall institute proceedings to determine whether the proposed rule should be approved or disapproved.

IV. Solicitation of Comments

Interested persons are invited to submit written data, views and arguments concerning the foregoing, including whether the proposed rule change is consistent with the Act. Comments may be submitted by any of the following methods:

Electronic Comments

• Use the Commission's internet comment form (https://www.sec.gov/rules/sro.shtml); or

• Send an email to rule-comments@sec.gov. Please include file number SR-BX-2025-017 on the subject line.

Paper Comments

• Send paper comments in triplicate to Secretary, Securities and Exchange Commission, 100 F Street NE, Washington, DC 20549-1090.

All submissions should refer to file number SR-BX-2025-017. This file number should be included on the subject line if email is used. To help the Commission process and review your comments more efficiently, please use only one method. The Commission will post all comments on the Commission's internet website (https://www.sec.gov/rules/sro.shtml). Copies of the filing will be available for inspection and copying at the principal office of the Exchange. Do not include personal identifiable information in submissions; you should submit only information that you wish to make available publicly. We may redact in part or withhold entirely from publication submitted material that is obscene or subject to copyright protection. All submissions should refer to file number SR-BX-2025-017 and should be submitted on or before October 1, 2025.

For the Commission, by the Division of Trading and Markets, pursuant to delegated authority.¹⁹
¹⁹ 17 CFR 200.30-3(a)(12).
Sherry R. Haywood,
Assistant Secretary.

[FR Doc. 2025-17342 Filed 9-9-25; 8:45 am]

BILLING CODE 8011-01-P